DEPARTMENT OF COMMERCE

National Telecommunications and Information Administration

[Docket Number: 991210330-0224-03 ]

RIN 0660-ZA10

Public Telecommunications Facilities Program (PTFP)

AGENCY: National Telecommunications and Information Administration, Commerce.

ACTION: Notice of applications received.

SUMMARY: The National Telecommunications and Information Administration (NTIA) previously announced the solicitation of grant applications for the Pan-Pacific Education and Communications Experiments by Satellite (PEACESAT) Program to compete for funds from the Public Broadcasting, Facilities, Planning and Construction Funds account. This notice announces the list of applications received and notifies any interested party that it may file comments with the Agency supporting or opposing an application.

FOR FURTHER INFORMATION CONTACT: William Cooperman, Director, Public Telecommunications Facilities Program, telephone: (202) 482-5802; fax: (202) 482-2156. Information about the PTFP can also be obtained electronically via Internet (send inquiries to http://www.ntia.doc.gov).

SUPPLEMENTARY INFORMATION: By Federal Register notice dated February 23, 2000, the NTIA, within the Department of Commerce, announced that it was soliciting grant applications for the Pan-Pacific Education and Communications Experiments by Satellite (PEACESAT) Program to compete for funds from the Public Broadcasting, Facilities, Planning and Construction Funds account. NTIA announced that the closing date for receipt of PTFP applications was 5 p.m. EST, March 29, 2000.

Notice is hereby given that the PTFP received one application from the following organization. Identification of any application only indicates its receipt. It does not indicate that it has been accepted for review, has been determined to be eligible for funding, or that an application will receive an award.

Any interested party may file comments with the Agency supporting or opposing an application and setting forth the grounds for support or opposition. PTFP will forward a copy of any opposing comments to the applicant. Comments must be sent to PTFP at the following address: NTIA/PTFP, Room 4625, 1401 Constitution Ave., NW., Washington, D.C. 20230.

The Agency will incorporate all comments from the public and any replies from the applicant in the applicant's official file.

File No. 00279 University of Hawaii, Social Science Research Institute, 2530 Dole St., Sakamaki Hall D-200, Honolulu, HI 96822. Contact: Dr. Norman Okamura, Telecommunications Specialist, (808) 956-2909. Funds Requested: $449,865. Total Project Cost: $525,343. To support public service and development telecommunications services in the Pacfic Island region, including the expansion of new digital services.

Dr. Bernadette McGuire-Rivera,
Associate Administrator, Office of Telecommunications and Information Applications.

[FR Doc. 00-20655 Filed 8-14-00; 8:45 am]

BILLING CODE 3510-60-P